DEPARTMENT OF HOMELAND SECURITY

Coast Guard

33 CFR Part 165

[Docket No. USCG-2023-0082]

Safety Zone; French Quarter Festival Fireworks Display, New Orleans LA

AGENCY: Coast Guard, DHS.

ACTION: Notification of enforcement of regulation.

SUMMARY: The Coast Guard will enforce a safety zone for the French Quarter Festival fireworks display from 7:30 to 8:45 p.m. on April 13, 2023. The safety zone will be enforced for all navigable waters of the Lower Mississippi River, New Orleans, LA from Mile Marker (MM) 94 to MM 95. This action is needed to provide for the safety of life on the navigable waterways during this event. In the event of inclement weather, the safety zone will be enforced from 7:30 to 8:45 p.m. on April 14, 2023. During the enforcement period, entry into this zone is prohibited to all vessels and persons except vessels authorized by the Captain of the Port New Orleans (COTP) or designated representative.

DATES: The regulations in 33 CFR 165.845 will be enforced from 7:30 to 8:45 p.m. on April 13, 2023. In the event of inclement weather, the safety zone will be enforced from 7:30 to 8:45 p.m. on April 14, 2023.

FOR FURTHER INFORMATION CONTACT: If you have questions about this notification of enforcement, call or email Lieutenant Commander William Stewart, Sector New Orleans, U.S. Coast Guard; telephone (504) 365-2246, email William.A.Stewart@uscg.mil.

SUPPLEMENTARY INFORMATION: The Coast Guard will enforce a safety zone for the French Quarter Festival fireworks display from 7:30 to 8:45 p.m. on April 13, 2023. The safety zone will be enforced for all navigable waters of the Lower Mississippi River, New Orleans, LA from MM 94 to MM 95. In the event of inclement weather, the safety zone will be enforced from 7:30 to 8:45 p.m. on April 14, 2023. During the enforcement period, as reflected in § 165.845 paragraphs (a) through (d), entry into this zone is prohibited to all vessels and persons except vessels authorized by the COTP or designated representative. A designated representative means any Coast Guard commissioned, warrant, or petty officer of the U.S. Coast Guard assigned to units under the operational control of Sector New Orleans. Persons and vessels requiring entry into this safety zone must request permission from the COTP or a designated representative. They may be contacted on VHF-FM Channel 16 or 67 or by telephone at (504) 365-2545. Persons and vessels permitted to enter this safety zone must transit at their slowest safe speed and comply with all lawful directions issued by the COTP or the designated representative.

In addition to this notification of enforcement in the Federal Register, the Coast Guard plans to provide notification of this enforcement period via Marine Safety Information Bulletin and Broadcast Notice to Mariners.

Dated: March 22, 2023.
K.K. Denning,
Captain, U.S. Coast Guard, Captain of the Port Sector New Orleans.

[FR Doc. 2023-06460 Filed 3-28-23; 8:45 am]

BILLING CODE 9110-04-P